INTERNATIONAL TRADE COMMISSION

[Investigation No. 731-TA-749 (Fifth Review)]

Persulfates From China

Determination

On the basis of the record ¹ developed in the subject five-year review, the United States International Trade Commission (“Commission”) determines, pursuant to the Tariff Act of 1930 (“the Act”), that revocation of the antidumping duty order on persulfates from China would be likely to lead to continuation or recurrence of material injury to an industry in the United States within a reasonably foreseeable time.²

¹ The record is defined in § 207.2(f) of the Commission's Rules of Practice and Procedure (19 CFR 207.2(f)).

² Commissioner Rhonda K. Schmidtlein did not participate.

Background

The Commission instituted this review on July 1, 2024 (89 FR 54533) and determined on October 4, 2024, that it would conduct an expedited review (89 FR 87598, November 4, 2024).

The Commission made this determination pursuant to section 751(c) of the Act (19 U.S.C. 1675(c)). It completed and filed its determination in this review on February 10, 2025. The views of the Commission are contained in USITC Publication 5586 (February 2025), entitled Persulfates from China: Investigation No. 731-TA-749 (Fifth Review).

By order of the Commission.
Issued: February 10, 2025.
Lisa Barton,
Secretary to the Commission.

[FR Doc. 2025-02610 Filed 2-12-25; 8:45 am]

BILLING CODE 7020-02-P